DEPARTMENT OF HOMELAND SECURITY

Coast Guard

33 CFR Part 117

[Docket No. USCG-2015-0973]

Drawbridge Operation Regulations; York River, Yorktown, VA

AGENCY: Coast Guard, DHS.

ACTION: Notice of deviation from drawbridge regulations.

SUMMARY: The Coast Guard has issued a temporary deviation from the operating schedule that governs the Coleman Memorial Bridge (US 17) across the York River, mile 7.0, at Yorktown, VA. This deviation allows the bridge to remain in the closed-to-navigation position to facilitate mechanical repairs to the bridge.

DATES: This deviation is effective from 10 p.m. on November 14, 2015, until 7 a.m. on November 22, 2015.

ADDRESSES: The docket for this deviation, [USCG-2015-0973], is available at http://www.regulations.gov. Type the docket number in the “SEARCH” box and click “SEARCH”.

FOR FURTHER INFORMATION CONTACT: If you have questions on this temporary deviation, call or email Mr. Hal R. Pitts, Bridge Administration Branch Fifth District, Coast Guard; telephone (757) 398-6222, email Hal.R.Pitts@uscg.mil.

SUPPLEMENTARY INFORMATION: The Virginia Department of Transportation, who owns and operates the Coleman Memorial Bridge (US 17), has requested a temporary deviation from the current operating regulations to facilitate mechanical repairs to the movable grating between one of the movable spans and the fixed bridge. The bridge is a swing bridge and has a vertical clearance in the closed position of 60 feet above mean high water.

The current operating schedule is set out in 33 CFR 117.1025. Under this temporary deviation, the bridge will remain in the closed-to-navigation position from 10 p.m. on November 14, 2015, until 7 a.m. on November 15, 2015. If necessary due to inclement weather on November 14, 2015, the bridge will remain in the closed-to-navigation position from 10 p.m. on November 21, 2015, until 7 a.m. on November 22, 2015. The York River is used by a variety of vessels including deep draft ocean-going vessels, U.S. government vessels, small commercial fishing vessels, recreational vessels and tug and barge traffic. The Coast Guard has carefully coordinated the restrictions with U.S. government and commercial waterway users.

Vessels able to pass through the bridge in the closed position may do so at anytime. The bridge will not be able to open for emergencies and there is no alternate route for vessels unable to pass through the bridge in the closed position. The Coast Guard will also inform the users of the waterways through our Local and Broadcast Notice to Mariners of the change in operating schedule for the bridge so that vessels can arrange their transits to minimize any impacts caused by this temporary deviation.

In accordance with 33 CFR 117.35(e), the drawbridge must return to its regular operating schedule immediately at the end of the effective period of this temporary deviation. This deviation from the operating regulations is authorized under 33 CFR 117.35.

Dated: October 19, 2015.
Hal R. Pitts,
Bridge Program Manager, Fifth Coast Guard District.

[FR Doc. 2015-26969 Filed 10-22-15; 8:45 am]

BILLING CODE 9110-04-P